DEPARTMENT OF HEALTH AND HUMAN SERVICES

Administration for Children and Families

Submission for OMB Review; Comment Request

Title: Uniform Project Description (UPD) for Discretionary Grant Application Form.

OMB No.: 0970-0139.

Description: The Administration for Children and Families (ACF) has more than 40 discretionary grant program. This information collection form will be a uniform discretionary application form unable for all of these grant programs to collect the information from grant applicants needed to evaluate and rank applicants and protect the integrity of the grantee selection process. All ACF discretionary grant programs would be eligible but not required to use this application form. The application consists of general information and instructions; the Standard Form 424 series that requests basic information, budget information and assurances; the Program Narrative requesting the applicant to describe how these objections will be reached; and certifications. Guidance for the content of information requested in the Program Narrative is found in OMB Circulars A-102 and A-110.

Respondents: Applicants for ACF Discretionary Grant Programs.

Annual Burden Estimates
Instrument | Number of respondents | Number of responses per respondent | Average burden hours per response | Total burden hours
UPD | 4,133 | 1 | 40 | 165,320

Estimated Total Annual Burden Hours: 165,320.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for, Children and Families.

Dated: March 20, 2007.
Robert Sargis,
Reports Clearance Officer.

[FR Doc. 07-1463 Filed 3-23-07; 8:45 am]

BILLING CODE 4184-07-M